DEPARTMENT OF TRANSPORTATION

Federal Aviation Administration

RTCA Special Committee 189/EUROCAE Working Group 53: Air Traffic Services (ATS) Safety and Interoperability Requirements

AGENCY: Federal Aviation Administration (FAA), DOT.

ACTION: Notice of RTCA Special Committee 189/EUROCAE Working Group 53 meeting.

SUMMARY: The FAA is issuing this notice to advise the public of a meeting of RTCA Special Committee 189/EUROCAE Working Group 53: Air Traffic Services (ATS) Safety and Interoperability Requirements.

DATES: The meeting will be held June 28-30, 2005 starting at 9 a.m.

ADDRESSES: The meeting will be held at Airbus France, M01—Rm S175, 316 Route de Bayonne, 31060 Toulouse Cedex 06, France.

FOR FURTHER INFORMATION CONTACT: (1) RTCA Secretariat, 1828 L Street, NW., Suite 805, Washington, DC 20036, (202) 833-9339; fax (202) 833-9434; Web site http://www.rtca.org; (2) Airbus France—Julien Le BARS; (Phone) +33 5 61 18 69 16; e-mail: julien.lebars@airbus.com.

SUPPLEMENTARY INFORMATION: Pursuant to section 10(a)(2) of the Federal Advisory Committee Act (Pub. L. 92-463, 5 U.S.C., Appendix 2), notice is hereby given for a Special Committee 189/EUROCAE Working Group 53 meeting.

Note: A security clearance must be submitted. Please contact Julien Le BARS for details. People that will not have filled and sent back the security clearance by June 18, will not be allowed to enter in Airbus facilities during the course of the meeting.

The plenary agenda will include:

• June 28-30:

• Opening Plenary Session (Welcome and Introductory Remarks, Review/Approval of Meeting Agenda, Review/Approval of Meeting Minutes)

• SEC-189/WG-53 co-chair progress report

• Progress work on PU-24, Version 4.0 (Approx. 1 day and 2 hours)

• Progress work on PU-40, Revision G (Approx. 1 day and 2 hours)

• Closing Plenary Session

• Debrief on progress of the week

• Review schedule and action items

Breakout sessions, if necessary, will be arranged on Monday morning.

Attendance is open to the interested public but limited to space availability. With the approval of the chairmen, members of the public may present oral statements at the meeting. Persons wishing to present statements or obtain information should contact the person listed in the FOR FURTHER INFORMATION CONTACT section. Members of the public may present a written statement to the committee at any time.

Issued in Washington, DC, on June 13, 2005.
Natalie Ogletree,
FAA General Engineer, RTCA Advisory Committee.

[FR Doc. 05-12141 Filed 6-20-05; 8:45 am]

BILLING CODE 4910-13-M